COMMISSION ON CIVIL RIGHTS

Notice of Public Meeting of the Nevada Advisory Committee

AGENCY: U.S. Commission on Civil Rights.

ACTION: Announcement of meeting.

SUMMARY: Notice is hereby given, pursuant to the provisions of the rules and regulations of the U.S. Commission on Civil Rights (Commission) and the Federal Advisory Committee Act that the Nevada Advisory Committee (Committee) will hold a meeting via the Webex platform on Monday, March 1, 2021 at 2:00 p.m. Pacific Time. The purpose of the meeting is for the Committee to continue planning for upcoming web hearings focused on distance learning and equity in education.

DATES: The meeting will be held on:

• Monday, March 1, 2021 at 2:00 p.m. Pacific Time

Public Call-In Information: Dial: 800-360-9505, Access Code: 199 102 9739

Web Access Information Link: http://bit.ly/NVSAC3121

FOR FURTHER INFORMATION CONTACT: Ana Fortes, Designated Federal Officer (DFO), at afortes@usccr.gov or by phone at (202) 681-0857.

SUPPLEMENTARY INFORMATION: An open comment period will be provided to allow members of the public to make a statement as time allows. The conference call operator will ask callers to identify themselves, the organization they are affiliated with (if any), and an email address prior to placing callers into the conference room. Callers can expect to incur regular charges for calls they initiate over wireless lines, according to their wireless plan. The Commission will not refund any incurred charges. Callers will incur no charge for calls they initiate over land-line connections to the toll-free telephone number. Persons with hearing impairments may also follow the proceedings by first calling the Federal Relay Service at 1-800-877-8339 and providing the Service with the conference call number and conference ID number.

Members of the public are also entitled to submit written comments; the comments must be received in the regional office within 30 days following the meeting. Written comments may be mailed to the Western Regional Office, U.S. Commission on Civil Rights, 300 N Los Angeles St., Suite 2010, Los Angeles, CA 90012 or email Ana Fortes at afortes@usccr.gov.

Records generated from this meeting may be inspected and reproduced at the Regional Programs Unit Office, as they become available, both before and after the meeting. Records of the meeting will be available at: https://www.facadatabase.gov/FACA/FACAPublicViewCommitteeDetails?id=a10t0000001gzlJAAQ.

Please click on the “Meeting Details” and “Documents” links. Persons interested in the work of this Committee are also directed to the Commission's website, http://www.usccr.gov, or may contact the Regional Programs Unit office at the above email or street address.

Agenda

I. Welcome

II. Review Agenda

III. Review Guidelines

IV. Discuss Press Outreach

V. Public Comment

VI. Adjournment

Exceptional Circumstance: Pursuant to 41 CFR 102-3.150, the notice for this meeting is given less than 15 calendar days prior to the meeting because of the exceptional circumstances of the COVID crisis and DFO availability.

Dated: February 18, 2021.
David Mussatt,
Supervisory Chief, Regional Programs Unit.

[FR Doc. 2021-03741 Filed 2-23-21; 8:45 am]

BILLING CODE P